DEPARTMENT OF TRANSPORTATION

Office of the Secretary

Notice of Applications for Certificates of Public Convenience and Necessity and Foreign Air Carrier Permits Filed Under Subpart B (Formerly Subpart Q) During the Week Ending December 13, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0378.

Date Filed: December 8, 2008.

Due Date for Answers, Conforming Applications, or Motion to Modify Scope: December 29, 2008.

Description: Application of Trans States Airlines, Inc. (“Trans States”) requesting that the Department (i) disclaim jurisdiction over a proposed corporate re-organization in which Trans States will be converted from a Missouri corporation to a Delaware limited liability company bearing the name Trans States Airlines, LLC, and shortly thereafter, transfer its certificate of public convenience and necessity, exemptions, designations, and any related operating authorities to Trans States Airlines, LLC, a Delaware Limited Liability Company, which will continue air carrier operations under the name of Trans States Airlines, LLC.

Docket Number: DOT-OST-2008-0379.

Date Filed: December 8, 2008.

Due Date for Answers, Conforming Applications, or Motion to Modify Scope: December 29, 2008.

Description: Application of SATA Internacional—Servicos E Transportes Aereos, S.A. (“SATA International”) requesting an amended foreign air carrier permit, incorporating all of the new rights made available to European Community carriers specifically, SATA Internacional seeks blanket open skies authority to enable it to engage in (i) Scheduled and charter foreign air transportation of persons, property and mail from any point or points behind any Member State of the European Union via any point or points in any Member State and via intermediate points to any point or points in the United States and beyond; (ii) scheduled and charter foreign air transportation of persons, property and mail between any point or points in any member of the European Common Aviation Area and any point or points in the United States; (iii) scheduled and charter all-cargo foreign air transportation between any point or points in the United States and any other point or points; (iv) other charters subject to the Department's regulations; and (v) transportation authorized by any additional route rights made available to European Community airlines in the future. SATA Internacional also requests exemption authority to the extent necessary to enable it to provide the services covered by this application while the Department evaluates SATA Internacional's application to amend its foreign air carrier permit.

Docket Number: DOT-OST-2008-0382.

Date Filed: December 9, 2008.

Due Date for Answers, Conforming Applications, or Motion to Modify Scope: December 30, 2008.

Description: Application of Travel Service, a.s. requesting an exemption authority and a foreign air carrier permit to conduct charter foreign air transportation between the European Community and the Member States of the European Union and the United States, consistent with the U.S.-EU Air Transport Agreement.

Docket Number: DOT-OST-1998-3876.

Date Filed: December 11, 2008.

Due Date for Answers, Conforming Applications, or Motion to Modify Scope: January 2, 2009.

Description: Application of Shuttle America Corporation (“Shuttle America”) requesting an amendment of its certificate of public convenience and necessity to remove the restriction which currently limits Shuttle America's scheduled passenger authority using large aircraft to operations conducted under fee-for-service agreements with U.S. air carriers.

Renee V. Wright,
Program Manager, Docket Operations, Federal Register Liaison.

[FR Doc. E9-696 Filed 1-13-09; 8:45 am]

BILLING CODE 4910-9X-P